DEPARTMENT OF THE INTERIOR

Bureau of Land Management

[WO-320-1990-PB-24 1A]

Submission to Office of Management and Budget—Information Collection, OMB Control Number 1004-0194

AGENCY: Bureau of Land Management, Interor.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by February 20, 2007 to receive maximum consideration.

ADDRESSES: Send comments to the OMB, Interior Department Desk Office (1004-0194), at OMB-OIRA via e-mail OIRA_DOCKET@omb.eop.gov or via facsimile at (202) 395-6566. Also please send a copy of your comments to BLM via Internet and include your name, address, and ATTN: 1004-0194 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshir to obtain copies and explanatory material on this information collection at (202) 452-5033. Persons who use a telecommunication device for the deaf (TDD) may call the Federal Information Relay Service (FIRS) on 1-800-877-8330, 24 hours a day, seven days a wek, to contact Ms. Beshir.

SUPPLEMENTARY INFORMATION: On March 6, 2006, the BLM published a notice in the Federal Register (71 FR 11224) requesting comments on the information collection. The comment period closed on May 5, 2006. The BLM did not receive any comments. We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Surface Management (43 CFR subpart 3809).

OMB Control Number: 1004-0194.

Abstract: Under the General Mining Law, a citizen may enter onto public domain lands that are subject to the law to prospect and explore for valuable mineral deposits. They may do so without seeking the government's permission beforehand. The rights to a deposit of a valuable mineral are granted through the act of discovering the mineral deposit. After making a discovery, a prospector may choose to locate and record a mining claim to protect investments in exploration and to have a secure tenure to discovered valuable mineral deposits. Locating a mining claim is not a prerequesite for conducting operations on the public lands, nor is it even a requirement for carrying out mining operations. The BLM uses the regulations at 43 CFR subpart 3809 to govern hardrock mineral exploration and development on the public lands and Federal interests in the lands. The hardrock minerals are subject to the provisions of the 1872 General Mining Law (30 U.S.C. 22, et seq., as amended).

BLM collects form and nonform information on surface management activities from mining claimants and operators.

Burden Estimate Per Form: The following chart lists form and non-form information collection requirements that are submitted quarterly, monthly, on occasion, and annually to the BLM by the private sector.

43 CFR Citation | Subpart | Forms | Number of responses | Hours/$ | Burden hours | Burden/($)
Non-Forms:
3809.21/.301 | Notice Level |  | 386 | 32 hr @ 75 | 12,352 | 926,400
3809.330 | Notice Level Modification |  | 108 | 32 hr @ 75 | 3,456 | 259,200
3809.333 | Notice Extension |  | 169 | 30 minutes @ 75 | 85 | 6,253
3809.11/.401 | Plan of Operations |  | 54 | 245 hr @ 90 | 13,230 | 1,190,700
| EIS |  | 6 | 4960 hr @ 205 | 29,760 | 6,100,800
| EA-Standard |  | 16 | 890 hr @ 90 | 14,240 | 1,281,600
| EA-Exploration/Simple |  | 35 | 320 hr @ 70 | 11,200 | 784,000
3809.430 | Plan Modificaton |  | 96 | 245 hr @ 90 | 23,520 | 2,116,900
| EIS |  | 2 | 4960 hr @ 205 | 9,920 | 2,033,600
| EA-Standard |  | 29 | 890 hr @ 90 | 25,810 | 2,322,900
| EA-Exploration/Simple |  | 62 | 320 hr @ 70 | 19,840 | 1,388,800
Forms:
3809.500 | Financial Guarantee | 3809-1 | 67 | 8 hours @ 40 | 536 | 21,440
|  | 3809-2 | 270 | 8 hours @ 40 | 2,160 | 86,400
|  | 3809-4 | 13 | 8 hours @ 40 | 104 | 4,160
|  | 3809-4a | 10 | 8 hours @ 40 | 80 | 3,200
3809.116 | Operator Change | 3809-5 | 46 | 8 hours @ 40 | 368 | 14,720
Total |  |  | 1,369 |  | 166,661 | 18,537,273

Annual Responses: 1,369.

Application Fee Per Response: 0.

Annual Burden Hours: 166,661.

Dated: January 11, 2007.
Ted R. Hudson,
Bureau of Land Management, Acting Division Chief Regulatory Affairs.

[FR Doc. 07-164 Filed 1-17-07; 8:45 am]

BILLING CODE 4310-84-M